DEPARTMENT OF AGRICULTURE

Animal and Plant Health Inspection Service

7 CFR Part 301

[Docket No. APHIS-2009-0079]

Karnal Bunt; Regulated Areas in Arizona, California, and Texas

AGENCY: Animal and Plant Health Inspection Service, USDA.

ACTION: Interim rule and request for comments.

SUMMARY: We are amending the Karnal bunt regulations to make changes to the list of areas or fields regulated because of Karnal bunt, a fungal disease of wheat. We are adding the Buckeye/Pretoria area of Maricopa County, AZ, to the list of regulated areas. We are also removing Throckmorton and Young Counties, TX, portions of Riverside County, CA, and certain areas in La Paz, Maricopa, and Pinal Counties, AZ, from the list of regulated areas based on our determination that those fields or areas meet our criteria for release from regulation. These actions are necessary to prevent the spread of Karnal bunt to noninfected areas of the United States and to relieve restrictions on certain areas that are no longer necessary.

DATES: This interim rule is effective November 10, 2010. We will consider all comments that we receive on or before January 10, 2011.

ADDRESSES: You may submit comments by either of the following methods:

• Federal eRulemaking Portal: Go to http://www.regulations.gov/fdmspublic/component/main?main=DocketDetail&d=APHIS-2009-0079 to submit or view comments and to view supporting and related materials available electronically.

• Postal Mail/Commercial Delivery: Please send one copy of your comment to Docket No. APHIS-2009-0079, Regulatory Analysis and Development, PPD, APHIS, Station 3A-03.8, 4700 River Road Unit 118, Riverdale, MD 20737-1238. Please state that your comment refers to Docket No. APHIS-2009-0079.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Ms. Lynn Evans-Goldner, Karnal Bunt Program Manager, Plant Pathogen and Weed Programs, EDP, PPQ, APHIS, 4700 River Road Unit 26, Riverdale, MD 20737-1236; (301) 734-7228.

SUPPLEMENTARY INFORMATION:

Background

Karnal bunt is a fungal disease of wheat (Triticum aestivum), durum wheat (Triticum durum), and triticale (Triticum aestivum X Secale cereale), a hybrid of wheat and rye. Karnal bunt is caused by the fungus Tilletia indica (Mitra) Mundkur and is spread primarily through the planting of infected seed followed by very specific environmental conditions matched during specific stages of wheat growth. Some countries in the international wheat market regulate Karnal bunt as a fungal disease requiring quarantine; therefore, without measures taken by the United States Department of Agriculture (USDA), Animal and Plant Health Inspection Service (APHIS), to prevent its spread, the presence of Karnal bunt in the United States could have significant consequences with regard to the export of wheat to international markets.

Upon detection of Karnal bunt in Arizona in March of 1996, Federal quarantine and emergency actions were imposed to prevent the interstate spread of the disease to other wheat-producing areas in the United States. The quarantine continues in effect, although it has since been modified, both in terms of its physical boundaries and in terms of its restrictions on the production and movement of regulated articles from regulated areas. The regulations regarding Karnal bunt are set forth in 7 CFR 301.89-1 through 301.89-16 (referred to below as the regulations). Articles regulated for Karnal bunt are listed in § 301.89-2. Conditions for determining whether an area is regulated for Karnal bunt are set forth in § 301.89-3.

The regulations in § 301.89-3(e)(2) provide that we will classify a field or area as a regulated area when it is:

• A field planted with seed from a lot found to contain a bunted wheat kernel;

• A distinct definable area that contains at least one field that was found during survey to contain a bunted wheat kernel. The distinct definable area may include an area where Karnal bunt is not known to exist but where intensive surveys are required because of the area's proximity to a field found during survey to contain a bunted kernel; or

• A distinct definable area that contains at least one field that has been determined to be associated with grain at a handling facility containing a bunted kernel of a host crop. The distinct definable area may include an area where Karnal bunt is not known to exist but where intensive surveys are required because of the area's proximity to the field associated with the bunted kernel at the handling facility.

We are adding a portion of Maricopa County, AZ, to the list of quarantined areas in § 301.89-3(g) based on our determination that fields within that area meet the criteria of § 301.89-3(e)(2). The area includes 8 fields comprising 4,553 acres in the Buckeye/Pretoria area of Maricopa County, AZ.

Under the regulations in § 301.89-3(f), a field known to have been infected with Karnal bunt, as well as any noninfected acreage surrounding the field, will be released from regulation if:

• The field has been permanently removed from crop production; or

• The field is tilled at least once per year for a total of 5 years (the years need not be consecutive). After tilling, the field may be planted with a crop or left fallow. If the field is planted with a host crop, the harvested grain must test negative, through the absence of bunted kernels, for Karnal bunt.

In this interim rule, we are amending the list of quarantined areas in § 301.89-3(g) by removing certain areas in La Paz County, AZ; two fields in Pinal County, AZ; the Chandler/Gilbert area of Maricopa County, AZ; Riverside County, CA; and Throckmorton and Young Counties, TX, from the list of regulated areas, based on our determination that these fields or areas are eligible for release from regulation under the criteria in § 301.89-3(f).

Specifically, we are removing:

Arizona

• 123 fields (5,094 acres) from La Paz County.

• 2 fields (67 acres) from Pinal County.

• 50 fields (13,237 acres) from Chandler/Gilbert area of Maricopa County.

California

• 464 fields (14,287 acres) from Riverside County.

Texas

• 79 fields (5,919 acres) from Throckmorton County.

• 221 fields (11,836 acres) from Young County.

This action relieves restrictions on fields within those areas that are no longer warranted. We note that with the removal of those fields in Throckmorton and Young Counties, there are no longer any areas within the State of Texas that are quarantined because of Karnal bunt.

Miscellaneous

In § 301.89-5, “Movement of regulated articles from regulated areas,” paragraph (a)(3) provides for the movement of soil samples. In a final rule published February 23, 2004 (69 FR 8091-8097, Docket No. 02-056-2), we removed soil from the list of regulated articles. In that rule, we should also have removed provisions for moving soil samples, but did not. We are correcting that oversight in this rule by removing paragraph (a)(3) and the associated footnote.

Immediate Action

Immediate action is necessary to help prevent Karnal bunt from spreading to noninfected areas of the United States. This rule will also relieve restrictions on certain fields or areas that are no longer warranted. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

This rule amends the Karnal bunt regulations by removing certain areas in Arizona, California, and Texas from quarantine based on surveys that indicate these areas have met the criteria for release from regulation. This rule also adds 4,553 acres in the Buckeye/Pretoria area of Maricopa County, AZ, to the list of areas quarantined because of Karnal bunt.

We have prepared an economic analysis for this interim rule. The analysis, which considers the number and types of entities that are likely to be affected by this action and the potential economic effects on those entities, provides the basis for the Administrator's determination that the rule will not have a significant economic impact on a substantial number of small entities. The economic analysis may be viewed on the Regulations.gov Web site (see ADDRESSES above for instructions for accessing Regulations.gov). Copies of the economic analysis are also available from the person listed under FOR FURTHER INFORMATION CONTACT.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

This interim rule contains no information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.89-3, paragraph (g) is amended as follows:

a. Under the heading “Arizona”, by revising the entries for La Paz County and Maricopa County to read as set forth below.

b. Under the heading “Arizona”, in the entry for Pinal County, by removing paragraph (3).

c. Under the heading “California”, by revising the entry for Riverside County to read as set forth below.

d. By removing the entry for Texas.

§ 301.89-3 Regulated areas.

* * * * *

(g) * * *

Arizona

La Paz County. Beginning at the northeast corner of sec. 24, T. 8 N., R. 21 W.; then south to the southeast corner of sec. 1, T. 7 N., R. 21 W.; then east to the northeast corner of sec. 7, T. 7 N., R. 20 W.; then south to the southeast corner of sec. 19, T. 7 N., R. 20 W.; then west to the southwest corner of sec. 19, T. 7 N., R. 20 W.; then south to the southeast corner of sec. 36, T. 7 N., R. 21 W.; then west to the southwest corner of sec. 36, T. 7 N., R. 21 W.; then south to the southeast corner of sec. 2, T. 6 N., R. 21 W.; then west to the southwest corner of sec. 2, T. 6 N., R. 21 W.; then south to the southeast corner of sec. 10, T. 6 N., R. 21 W.; then west to the southwest corner of sec. 8, T. 6 N., R. 21 W.; then north to the southwest corner of sec. 5, T. 6 N., R. 21 W.; then west to the southwest corner of sec. 6, T. 6 N., R. 21 W.; then north to the northwest corner of sec. 6, T. 6 N., R. 21 W.; then west to the southwest corner of sec. 36, T. 7 N., R. 22 W., then north to the northwest corner of sec. 24, T. 7 N., R. 22 W.; then east to the northeast corner of sec. 24, T. 7 N., R. 22 W.; then north from that point to the Colorado River; then northeast along the Colorado River to the northern boundary of sec. 16, T. 8 N., R. 21 W.; then east to the northeast corner of sec. 14, T. 8 N., R. 21 W.; then south to the southeast corner of sec. 14, T. 8 N., R. 21 W.; then east to the point of beginning.

Maricopa County. (1) Beginning at the southeast corner of sec. 8, T. 1 S., R. 2 E.; then west to the southwest corner of sec. 8, T. 1 S., R. 2 E.; then south to the southeast corner of sec. 18, T. 1 S., R. 2 E.; then west to the southwest corner of sec. 14, T. 1 S., R. 1 E.; then north to the northwest corner of sec. 14, T. 1 S., R. 1 E.; then west to the southwest corner of sec. 9, T. 1 S., R. 1 E.; then north to the northwest corner of sec. 9, T. 1 S., R. 1 E.; then west to the southwest corner of sec. 5, T. 1 S., R. 1 E.; then north to the northwest corner of sec. 5, T. 1 S., R. 1 E.; then west to the northeast corner of sec. 6, T. 1 S., R. 1 W.; then south to the southeast corner of sec. 7, T. 1 S., R. 1 W.; then west to the northeast corner of sec. 14, T. 1 S., R. 2 W.; then south to the southeast corner of sec. 14, T. 1 S., R. 2 W.; then west to the northeast corner of sec. 20, T. 1 S., R. 2 W.; then south to the southeast corner of sec. 20, T. 1 S., R. 2 W.; then west to the northeast corner of sec. 29, T. 1 S., R. 3 W.; then south to the southeast corner of sec. 29, T. 1 S., R. 3 W.; then west to the southwest corner of sec. 26, T. 1 S., R. 5 W.; then north to the northwest corner of sec. 14, T. 1 N., R. 5 W.; then east to the southwest corner of sec. 7, T. 1 N., R. 2 W.; then north to the northwest corner of sec. 7, T. 1 N., R. 2 W.; then east to the northeast corner of sec. 7, T. 1 N., R. 2 W.; then north to the northwest corner of sec. 5, T. 1 N., R. 2 W.; then east to the northeast corner of sec. 5, T. 1 N., R. 2 W.; then north to the northwest corner of sec. 33, T. 2 N., R. 2 W.; then east to the northeast corner of sec. 33, T. 2 N., R. 2 W.; then north to the northwest corner of sec. 3, T. 3 N., R. 2 W.; then east to the northeast corner of sec. 1, T. 3 N., R. 1 W.; then south to the northwest corner of sec. 19, T. 3 N., R. 1 E.; then east to the northeast corner of sec. 20, T. 3 N., R. 1 E.; then south to the northeast corner of sec. 29, T. 3 N., R. 1 E.; then east to the northeast corner of sec. 27, T. 3 N., R. 1 E.; then south to the southeast corner of sec. 27, T. 3 N., R. 1 E.; then east to the northeast corner of sec. 35, T. 3 N., R. 1 E.; then south to the southeast corner of sec. 35, T. 3 N., R. 1 E.; then east to the northeast corner of sec. 1, T. 2 N., R. 1 E.; then south to the northeast corner of sec. 1, T. 1 N., R. 1 E.; then east to the northeast corner of sec. 4, T. 1 N., R. 2 E.; then south to the northwest corner of sec. 15, T. 1 N., R. 2 E.; then east to the northeast corner of sec. 14, T. 1 N., R. 2 E.; then south to the southeast corner of sec. 35, T. 1 N., R. 2 E.; then west to the northeast corner of sec. 3, T. 1 S., R. 2 E.; then south to the southeast corner of sec. 3, T. 1 S., R. 2 E.; then west to the southwest corner of sec. 4, T. 1 S., R. 2 E.; then south to the point of beginning.

(2) Beginning at the intersection of the Maricopa/Pinal County line and the southeast corner of sec. 36, T. 2 S., R. 7 E.; then west along the Maricopa/Pinal County line to the southwest corner of sec. 33, T. 2 S., R. 5 E.; then north to the northwest corner of sec. 33; then west to the southwest corner of sec. 30, T. 2 S., R. 5 E.; then north to the southeast corner of sec. 25, T. 2 S., R. 4 E.; then west to the southwest corner of sec. 25, T. 2 S., R. 4 E.; then north to the southwest corner of sec. 13, T. 2 S., R. 4 E.; then west to the southwest corner of sec. 15, T. 2 S., R. 4 E.; then north to the northwest corner of sec. 3, T. 2 S., R. 4 E.; then east to the southwest corner of sec. 35, T. 1 S., R. 4 E.; then north to the northwest corner of sec. 35, T. 1 S., R. 4 E.; then east to the northeast corner of sec. 33, T. 1 S., R. 5 E.; then north to the northwest corner of sec. 27, T. 1 S., R. 5 E.; then east to the northeast corner of sec. 27, T. 1 S., R. 5 E.; then north to the northwest corner of sec. 23, T. 1 S., R. 5 E.; then east to the northeast corner of sec. 21,T. 1 S., R. 6 E.; then south to the southeast corner of sec. 21, T. 1 S., R. 6 E.; then east to the northeast corner of sec. 27, T. 1 S., R. 6 E.; then south to the southeast corner of sec. 27, T. 1 S., R. 6 E.; then east to the northeast corner of sec. 31, T. 1 S., R. 7 E.; then south to the northwest corner of sec. 5, T. 2 S., R. 7 E.; then east to the northeast corner of sec. 3, T. 2 S., R. 7 E.; then north to the northwest corner of sec. 35, T. 1 S., R. 7 E.; then east to the northeast corner of sec. 36, T. 1 S., R. 7 E. and the Maricopa/Pinal County line; then south along the Maricopa/Pinal County line to the point of beginning.

* * * * *

California

Riverside County. That portion of Riverside County known as the Palo Verde Valley (in part) bounded by a line drawn as follows: Beginning at the intersection of 22nd Avenue and State Highway 78; then north on State Highway 78 to an unnamed road at 33.548088 latitude and −114.656718 longitude; then east on the unnamed road to an unnamed canal at 33.548066 latitude and −114.647868 longitude; then north on the unnamed canal to 33.548360 latitude and 114.647877 longitude; then east from that point to 33.548360 latitude and −114.643696 longitude; then north from that point to 33.550088 latitude and −114.643692 longitude; then east from that point to 33.550044 latitude and −114.639367 longitude; then north from that point to 33.551705 latitude and −114.639367 longitude; then east from that point to the Atchison, Topeka, and Santa Fe Railroad tracks at 33.551740 latitude and −114.634545 longitude; then southwest along the Atchison, Topeka, and Santa Fe Railroad tracks to 33.548300 latitude and −114.637487 longitude; then east from that point to the C Canal at 33.548277 latitude and −114.626363 longitude; then north along the C Canal to 33.549084 latitude and −114.626372 longitude; then east from that point to South Defrain Boulevard at 33.549145 latitude and −114.621792 longitude; then south on South Defrain Boulevard to 33.548217 latitude and −114.621774 longitude; then east from that point to Lovekin Drain at 33.548338 latitude and −114.612488 longitude; then south along Lovekin Drain to 22nd Avenue; then east on 22nd Avenue to South Lovekin Boulevard; then south on South Lovekin Boulevard to 33.541141 latitude and 114.603889 longitude; then east from that point to 33.541274 latitude and −114.595394 longitude; then southeast from that point to 33.540357 latitude and −114.59219 longitude; then south from that point to 33.536702 latitude and −114.595261 longitude; then northeast from that point to 33.537766 latitude and −114.593187 longitude; then east from that point to an unnamed canal beginning at 33.537887 latitude and −114.586582 longitude; then south along the unnamed canal to 33.534809 latitude and −114.586554 longitude; then southeast from that point to S C and D Boulevard at 33.534561 latitude and −114.586228 longitude; then south on S C and D Boulevard to 33.523400 latitude and −114.585948 longitude; then east from that point to the D10-11 Canal at 33.523596 latitude and −114.577832 longitude; then southwest along the D1011 Canal to the boundary line of Riverside County at 33.540900 latitude and −114.544620 longitude; then southeast along the Riverside County boundary line to 33.455829 latitude and 114.623143 longitude; then west from that point to 33.455783 latitude and −114.669038 longitude; then north from that point to South End Drain at 33.456190 latitude and −114.669076 longitude; then north along South End Drain to 34th Avenue; then west on 34th Avenue to 33.463226 latitude and −114.682378 longitude; then north from that point to the C-18-1 Canal; then west along the C-18-1 Canal to 33.470427 latitude and −114.691076 longitude; then north from that point to an unnamed canal at latitude 33.474836 and −114.691197 longitude; then southwest along the unnamed canal to Palo Verde Lagoon; then northeast along Palo Verde Lagoon to Rannells Drain; then north along Rannells Drain to 33.499639 latitude and 114.961526 longitude; then north from that point to the C-03 Canal; then north along the C-03 Canal to 33.522835 latitude and −114.687051 longitude; then north from that point to 24th Avenue; then east on 24th Avenue to the C-03 Canal; then north along the C-03 Canal to 33.537501 latitude and −114.682892 longitude; then east from that point to Stephenson Boulevard; then north on Stephenson Boulevard to 22nd Avenue; then east on 22nd Avenue to the point of beginning.

§ 301.89-5 [Amended]

3. Section 301.89-5, is amended by removing paragraph (a)(3) and footnote 1.

§ 301.89-6 [Amended]

4. In § 301.89-6, in paragraph (a) introductory text and paragraph (a)(2), footnotes 2 and 3 are redesignated as footnotes 1 and 2, respectively.

§ 301.89-7 [Amended]

5. In § 301.89-7, footnote 4 is redesignated as footnote 3.

6. In § 301.89-9, paragraph (a) is amended as follows:

a. By redesignating footnote 5 as footnote 4.

b. By revising newly redesignated footnote 4 to read as set forth below.

§ 301.89-7 Assembly and inspection of regulated articles.

(a) * * * ⁴

____________________

⁴ See footnote 1.

* * * * *

Done in Washington, DC, this 4th day of November 2010.
Kevin Shea,
Acting Administrator, Animal and Plant Health Inspection Service.

[FR Doc. 2010-28347 Filed 11-9-10; 8:45 am]

BILLING CODE 3410-34-P